DEPARTMENT OF JUSTICE

Antitrust Division

Notice Pursuant to The National Cooperative Research and Production Act of 1993—The Open Group, L.L.C.

Notice is hereby given that, on August 1, 2022, pursuant to Section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances. Specifically, Agile Architects NV, Kontich, BELGIUM; Akridata, Inc., Los Altos, CA; arcasg, Bogota, COLOMBIA; Buurst, Inc., Houston, TX; CAE USA, Inc., Arlington, TX; CommandPrompt, Inc., Bellingham, WA; Craytive Technologies BV, Vlaardingen, THE NETHERLANDS; Elsevier, Inc., New York, NY; Epirus Inc., Hawthorne, CA; Exebenus AS, Stavanger, NORWAY; Green Horizon AS, Sandnes, NORWAY; Infinite Dimensions Integration, Inc., West Plains, MO; Jio Systems, Inc., The Woodlands, TX; Magseis Fairfield ASA, Lysaker, NORWAY; Mathtech, Inc., Falls Church, VA; MTN Group Management Services, Johannesburg, SOUTH AFRICA; Mundo Cognito Ltd., Penn, UNITED KINGDOM; North Oil Company, Doha, QATAR; Norwegian University of Science and Technology, Trondheim, NORWAY; Ovation Data, Houston, TX; Pason Systems Corp, Calgary, CANADA; Petrosoft Design Desenvolvimento de Software LTDA, Rio de Janeiro, BRAZIL; Planckton Data, Sugarland, TX; Rebellion Defense, Inc., Washington, DC; Roke USA, Salem, NH; Sharp Reflections GmbH, Kaiserslautern, GERMANY; Shearwater GeoServices, Bregen, NORWAY; Sistemas Avanzados de Tecnologia S.A., Madrid, SPAIN; Sprintzeal, Americas Inc., Las Vegas, NV; The Board of Supervisors of Louisiana State University, Baton Rouge, LA; The MathWorks, Inc., Natick, MA; Versatile Technology, Al Qibla, KUWAIT; Virginia Department of Social Services—ITS, Richmond, VA; Visure Solutions, Inc., San Francisco, CA; W-IE-NE-R Power Electronics Corp., Springfield, OH; and Wakefield Thermal, Nashua, NH, have been added as parties to this venture.

Also, AeroVironment Inc., Simi Valley, CA; Anurag Group of Institutions, Hyderabad, INDIA; Asia eHealth Information Network, Kowloon, PEOPLE'S REPUBLIC OF CHINA; D3 Clarity, Inc., Austin, TX; Digital India Corporation—NeGD, New Delhi, INDIA; FEI-Elcom Tech, Inc, Northvale, NJ; Geoprovider AS, Stavanger, NORWAY; Intellicess, Inc., Austin, TX; Oliasoft AS, Oslo, NORWAY; ORSYS Formation, Paris, FRANCE; Parasoft Corporation, Monrovia, CA; Primesource AS, Oslo, NORWAY; Reliance Industries Limited, Navi Mumbai, INDIA; Reveal Energy, Services, LLC, Houston, TX; Richfit Information Technology Co. Ltd., Beijing, PEOPLE'S REPUBLIC OF CHINA; SizweNtsalubaGobodo, Johannesburg, SOUTH AFRICA; Snowflake Inc., San Mateo; CA; Softing Industrial Automation GmbH, Haar, GERMANY; Stratus Technologies, Inc., Maynard, MA; SYRACOM Consulting AG, Wiesbaden, GERMANY; The HDF Group, Champaign, IL; The University of Reading, Reading, UNITED KINGDOM; University of Texas at Austin—RAPID Consortium, Austin, TX; ValueFlow IT Pty Ltd., Cattai, AUSTRALIA; Vanke Service Co., Ltd, Shenzhen, PEOPLE'S REPUBLIC OF CHINA; and Vector North America, East Greenwich, RI, have withdrawn as parties to this venture.

No other changes have been made in either the membership or planned activity of the group research project. Membership in this group research project remains open, and TOG intends to file additional written notifications disclosing all changes in membership.

On April 21, 1997, TOG filed its original notification pursuant to Section 6(a) of the Act. The Department of Justice published a notice in the Federal Register pursuant to Section 6(b) of the Act on June 13, 1997 (62 FR 32371).

The last notification was filed with the Department on May 23, 2022. A notice was published in the Federal Register pursuant to Section 6(b) of the Act on June 13, 2022 (87 FR 35794).

Suzanne Morris,
Chief, Premerger and Division Statistics, Antitrust Division.

[FR Doc. 2022-18647 Filed 8-29-22; 8:45 am]

BILLING CODE P